DEPARTMENT OF ENERGY

Federal Energy Regulatory Commission

[Project No. 553-221—Washington]

City of Seattle, WA; Notice of Availability of Environmental Assessment

In accordance with the National Environmental Policy Act of 1969 and the Federal Energy Regulatory Commission's (Commission's or FERC's) regulations, 18 CFR part 380, Commission staff has reviewed the application for amendment of license for the Skagit River Project (FERC No. 553) and has prepared an Environmental Assessment (EA). The project is located on the Skagit River in Skagit, Snohomish, and Whatcom Counties, Washington.

The EA contains the Commission staff's analysis of the potential environmental effects of construction and operation of a proposed second power tunnel and fish flow measures and concludes that authorizing the amendment, with appropriate environmental protective measures would not constitute a major federal action that would significantly affect the quality of the human environment.

Copies of the EA are available for review in the Public Reference Room 2-A of the Commission's offices at 888 First Street NE., Washington, DC 20426. The EA may also be viewed on the Commission's Internet Web site (www.ferc.gov) using the “eLibrary” link. Enter the docket number excluding the last three digits in the docket number field to access the document. Additional information about the project is available from the Commission's Web site using the eLibrary link. For assistance with eLibrary, contact FERCOnlineSupport@ferc.gov or toll-free at (866) 208-3676; for TTY contact (202) 502-8659.

Dated: July 9, 2012.
Kimberly D. Bose,
Secretary.

[FR Doc. 2012-17324 Filed 7-16-12; 8:45 am]

BILLING CODE 6717-01-P